DEPARTMENT OF THE INTERIOR

Bureau of Land Management

[NV-030-00-1020-24]

Mojave Southern Great Basin Resource Advisory Council; Notice of Meeting Location and Time

AGENCY: Bureau of Land Management, Interior.

ACTION: Notice of meeting location and time for the Mojave Southern Great Basin Resource Advisory Council (Nevada).

SUMMARY: In accordance with the Federal Land Policy and Management Act and the Federal Advisory Committee Act of 1972 (FACA), the U.S. Department of the Interior, Bureau of Land Management (BLM) Mojave Southern Great Basin Resource Advisory Council (RAC), Nevada, will be held as indicated below. Topics for discussion will include manager's reports of field office activities; an update on the Southern Nevada Public Land Management Act of 1998; and other topics the council may raise.

All meetings are open to the public. The public may present written and/or oral comments to the council. Individuals who need special assistance such as sign language interpretation or other reasonable accommodations should contact Phillip Guerrero at (702) 515-5046.

DATE AND TIME: The RAC will meet on December 4 and 5, 2003, in the BLM's Las Vegas Field Office; on March 25 and 26, 2004 also in the BLM's Las Vegas Field Office; June 9, 10 and 11, 2004, in the BLM's Ely Field Office; and August 19 and 20, 2004, in the BLM's Tonopah Field Station. The meetings are from 8 a.m. to 4:30 p.m.

FOR FURTHER INFORMATION CONTACT: Phillip L. Guerrero, Public Affairs Officer, BLM Las Vegas Field Office, 4701 North Torrey Pines Drive, Las Vegas, NV 89130-2301, or by phone at (702) 515-5046.

Dated: November 12, 2003.
Phillip L. Guerrero,
Public Affairs Officer, Las Vegas Field Office.

[FR Doc. 03-28863 Filed 11-18-03; 8:45 am]

BILLING CODE 4310-HC-M